DEPARTMENT OF ENERGY

Federal Energy Regulatory Commission

[Project No. 2685-029]

New York Power Authority; Notice of Availability of Final Environmental Assessment

In accordance with the National Environmental Policy Act of 1969 and the Federal Energy Regulatory Commission's (Commission) regulations, 18 CFR part 380, the Office of Energy Projects has reviewed the application for a new license for the Blenheim-Gilboa Pumped Storage Project, located on Schoharie Creek, in the Towns of Blenheim and Gilboa in Schoharie County, New York, and has prepared a final Environmental Assessment (EA) for the project.

The final EA contains Commission staff's analysis of the potential environmental effects of the project, and concludes that relicensing the project, with appropriate environmental protective measures, would not constitute a major federal action that would significantly affect the quality of the human environment.

A copy of the final EA is available for review at the Commission in the Public Reference Room, or may be viewed on the Commission's website at http://www.ferc.gov, using the eLibrary link. Enter the docket number, excluding the last three digits in the docket number field, to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, contact Andy Bernick at (202) 502-8660.

Dated: February 14, 2019.
Kimberly D. Bose,
Secretary.

[FR Doc. 2019-03259 Filed 2-25-19; 8:45 am]

BILLING CODE 6717-01-P